DEPARTMENT OF COMMERCE

National Technical Information Service

Agency Information Collection Activities; Submission to the Office of Management and Budget (OMB) for Review and Approval; Comment Request; Limited Access Death Master File Certification Form (Certification Form)

AGENCY: National Technical Information Service (NTIS), Department of Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before February 27, 2023.

ADDRESSES: Interested persons are invited to submit written comments to Daniel Ramsey, Supervisory Program Manager, Office of Program Management, National Technical Information Service, Department of Commerce, at dramsey@ntis.gov or at PRAcomments@doc.gov. Please reference OMB Control Number 0692-0013 in the subject line of your comments. Do not submit Confidential Business Information or otherwise sensitive or protected information.

FOR FURTHER INFORMATION CONTACT: Requests for additional information or copies of the information collection instrument and instructions should be directed to Daniel Ramsey, Supervisory Program Manager, Office of Program Management, National Technical Information Service, Department of Commerce, 5301 Shawnee Road, Alexandria, VA 22312 by email: dramsey@ntis.gov or telephone: 703-605-6703.

SUPPLEMENTARY INFORMATION:

I. Abstract

This is a request for extension of an existing information collection.

NTIS issued a final rule establishing a program through which persons may become eligible to obtain access to Death Master File (DMF) information about an individual within three years of that individual's death (81 FR 34882, June 1, 2016). The final rule was promulgated under Section 203 of the Bipartisan Budget Act of 2013, Public Law 113-67 (Act). The Act prohibits the Secretary of Commerce (Secretary) from disclosing DMF information during the three-year period following an individual's death (Limited Access DMF), unless the person requesting the information has been certified to access the Limited Access DMF pursuant to certain criteria in a program that the Secretary establishes. The Secretary delegated the authority to carry out Section 203 to the Director of NTIS.

The final rule requires that a Person seeking access to the Limited Access Death Master File establish a legitimate fraud prevention interest or legitimate business purpose pursuant to a law, governmental rule, regulation, or fiduciary duty. The Certification Form collects information that NTIS will use to evaluate whether the respondent qualifies to receive the Limited Access Death Master File under the rule.

II. Method of Collection

Electronic.

III. Data

OMB Control Number: 0692-0013.

Form Number(s): NTIS FM161.

Type of Review: Regular submission (extension of approved information collection.)

Affected Public: Individuals or households.

Estimated Number of Respondents: 260.

Estimated Time per Response: 3 hours.

Estimated Total Annual Burden Hours: 780.

Estimated Total Annual Cost to Public: $888,160.

Respondent's Obligation: Voluntary.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-28120 Filed 12-23-22; 8:45 am]

BILLING CODE 3510-04-P